DEPARTMENT OF COMMERCE

National Oceanic and Atmospheric Administration

RIN 0648-XA618

Fisheries of the South Atlantic; Southeast Data, Assessment, and Review (SEDAR); Assessment Process Webinars for South Atlantic Black Sea Bass (Centropristis striata) and Golden Tilefish (Lopholatilus chamaeleonticeps)

AGENCY: National Marine Fisheries Service (NMFS), National Oceanic and Atmospheric Administration (NOAA), Commerce.

ACTION: Notice of SEDAR 25 South Atlantic assessment webinars for black sea bass and golden tilefish.

SUMMARY: The SEDAR 25 assessments of the South Atlantic black sea bass and golden tilefish will consist of a series of workshops and webinars: this notice is for webinars associated with the Assessment portion of the SEDAR process. See SUPPLEMENTARY INFORMATION.

DATES: Two additional SEDAR 25 webinars will be held between on September 2 and September 13, 2011. Please see list below for exact dates and times. Webinars for July 12 through August 22, 2011 were announced in a previous notice. The established times may be adjusted as necessary to accommodate the timely completion of discussion relevant to the assessment process. Such adjustments may result in the meeting being extended from, or completed prior to the times established by this notice.

Date | Day | Time (Eastern)
Sept. 2, 2011 | Tuesday | 9 a.m.-12 p.m.
Sept. 13, 2011 | Thursday | 1 p.m.-4 p.m.

ADDRESSES: The meetings will be held via webinar. The webinar is open to the public. Those interested in participating should contact Kari Fenske at SEDAR (See Contact Information Below) to request an invitation providing webinar access information.

FOR FURTHER INFORMATION CONTACT: Kari Fenske, SEDAR Coordinator, 4055 Faber Place, Suite 201, North Charleston, SC 29405; telephone: (843) 571-4366; e-mail: kari.fenske@safmc.net.

SUPPLEMENTARY INFORMATION:

The Gulf of Mexico, South Atlantic, and Caribbean Fishery Management Councils, in conjunction with NOAA Fisheries and the Atlantic and Gulf States Marine Fisheries Commissions have implemented the Southeast Data, Assessment and Review (SEDAR) process, a multi-step method for determining the status of fish stocks in the Southeast Region. SEDAR is a three-step process including: (1) Data Workshop, (2) Assessment Process utilizing webinars and workshops (3) Review Workshop. The product of the Data Workshop is a data report which compiles and evaluates potential datasets and recommends which datasets are appropriate for assessment analyses. The product of the Assessment Process is a stock assessment report which describes the fisheries, evaluates the status of the stock, estimates biological benchmarks, projects future population conditions, and recommends research and monitoring needs. The assessment is independently peer reviewed at the Review Workshop. The product of the Review Workshop is a Summary documenting Panel opinions regarding the strengths and weaknesses of the stock assessment and input data. Panelists for SEDAR Workshops are appointed by the Gulf of Mexico, South Atlantic, and Caribbean Fishery Management Councils and NOAA Fisheries Southeast Regional Office, HMS Management Division, and Southeast Fisheries Science Center. Participants include data collectors and database managers; stock assessment scientists, biologists, and researchers; constituency representatives including fishermen, environmentalists, and NGO's; International experts; and staff of Councils, Commissions, and state and Federal agencies.

SEDAR 25 Assessment Process Webinar Series

Using datasets recommended from the Data Workshop, Panelists will employ assessment models to evaluate stock status, estimate population benchmarks and management criteria, and project future conditions. Panelists will recommend the most appropriate methods and configurations for determining stock status and estimating population parameters.

Special Accommodations

These meetings are physically accessible to people with disabilities. Requests for sign language interpretation or other auxiliary aids should be directed to the Council office (see ADDRESSES) at least 5 business days prior to the meeting.

Dated: August 2, 2011.
William D. Chappell,
Acting Director, Office of Sustainable Fisheries, National Marine Fisheries Service.

[FR Doc. 2011-19928 Filed 8-4-11; 8:45 am]

BILLING CODE 3510-22-P